DEPARTMENT OF HEALTH AND HUMAN SERVICES

Centers for Disease Control and Prevention

National Health and Nutrition Examination Survey (NHANES) DNA Samples: Guidelines for Proposals To Use Samples and Cost Schedule [Correction]

The notice “National Health and Nutrition Examination Survey (NHANES) DNA Samples: Guidelines for Proposals to Use Samples and Cost Schedule,” was published in the Federal Register on September 3rd, 2009, (Vol. 74 FR No. 170). This notice is corrected as follows:

On page 45647 first column, under Public Availability of Data, the Web site should read: http://www.cdc.gov/nchs/nhanes/genetics/genetic_types.htm.

Proposals for secondary data analyses linking NHANES public use data with genetic variation data will be reviewed by the Research Data Center see: http://www.cdc.gov/nchs/r&d/rdc.htm for proposal guidelines.

Dated: October 1, 2009.
James Stephens,
Associate Director for Science, Centers for Disease Control and Prevention.

[FR Doc. E9-24297 Filed 10-7-09; 8:45 am]

BILLING CODE 4163-18-P